DEPARTMENT OF ENERGY

[Docket No. EA-206-B]

Application To Export Electric Energy; Frontera Generation Limited Partnership and TECO EnergySource, Inc. for Transfer of Authorization

AGENCY: Office of Fossil Energy, DOE.

ACTION: Notice of application.

SUMMARY: Frontera Generation Limited Partnership (Frontera) and TECO EnergySource, Inc. (TES) have jointly applied to transfer TES's authority to transmit electric energy from the United States to Mexico from TES to Frontera, pursuant to section 202(e) of the Federal Power Act.

DATES: Comments, protests or requests to intervene must be submitted on or before December 17, 2004.

ADDRESSES: Comments, protests or requests to intervene should be addressed as follows: Office of Coal & Power Systems (FE-27), Office of Fossil Energy, U.S. Department of Energy, 1000 Independence Avenue, SW., Washington, DC 20585-0350 (FAX 202-287-5736).

FOR FURTHER INFORMATION CONTACT: Steven Mintz (Program Office) 202-586-9506 or Michael Skinker (Program Attorney) 202-586-2793.

SUPPLEMENTARY INFORMATION: Exports of electricity from the United States to a foreign country are regulated and require authorization under section 202(e) of the Federal Power Act (FPA) (16 U.S.C. 824a(e)).

On July 12, 1999, the Office of Fossil Energy (FE) of the Department of Energy (DOE) issued Presidential Permit PP-206 authorizing Frontera to construct, operate, maintain, and connect a 230,000-volt electric transmission line that extends from the Frontera powerplant in Mission, Texas, across the U.S. border with Mexico, and connecting to similar facilities owned by the Comision Federal de Electricidad (CFE), the national electric utility of Mexico. In a related proceeding, on July 20, 1999, in Docket EA-206, FE authorized Frontera to transmit electric energy from the United States to Mexico using the electric transmission facilities authorized in PP-206.

On May 21, 2002, Frontera and TES jointly applied to DOE to have Frontera's export authority transferred to TES. The transfer of authorization was granted by FE on August 6, 2002, in Docket No. EA-206-A.

On October 1, 2004, Frontera and TES jointly applied to DOE to have TES's export authority transferred back to Frontera. The applicants make this request in order to facilitate a planned restructuring of the applicants' parent company, TECO Energy Inc., which is exiting the merchant energy business and thus is contemplating the sale or assignment of Frontera to an unaffiliated party. One of the terms of the sale or assignment would be that the authority to export electric energy from the Frontera powerplant reside with the project entity.

Procedural Matters: Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the dates listed above.

Comments on the application to transfer the export authorization from TES to Frontera should be clearly marked with Docket EA-206-B. Additional copies are to be filed directly with David A. Crabtree, Director, Regulatory & Governmental Affairs, TECO Energy, Inc., P.O. Box 111, 702 North Franklin Street, Tampa FL 33602 and Jerry L. Pfeffer, Energy Industries Advisor, Skadden, Arps, Slate, Meagher & Flom LLP, 1440 New York Avenue, NW., Washington DC 20005-2111.

Copies of this application will be made available, upon request, for public inspection and copying at the address provided above or by accessing the Fossil Energy Home Page at http://www.fe.doe.gov. Upon reaching the Fossil Energy Home page, select “Electricity Regulation,” and then “Pending Proceedings” from the options menus.

Issued in Washington, DC, on November 10, 2004.
Anthony J. Como,
Deputy Director, Electric Power Regulation, Office of Coal & Power Systems, Office of Fossil Energy.

[FR Doc. 04-25472 Filed 11-16-04; 8:45 am]

BILLING CODE 6450-01-P